NUCLEAR WASTE TECHNICAL REVIEW BOARD

Notice of Meeting

Board Meetings: November 8-9, 2005—Las Vegas, Nevada; The U.S. Nuclear Waste Technical Review will meet to discuss technical and scientific issues related to the U.S. Department of Energy's efforts to develop a repository at Yucca Mountain in Nevada.

Pursuant to its authority under section 5051 of Public Law 100-203, Nuclear Waste Policy Amendments Act of 1987, the U.S. Nuclear Waste Technical Review Board will meet in Las Vegas, Nevada, on Tuesday, November 8, and for a half-day on Wednesday, November 9, 2005. The Board will discuss a range of technical and scientific issues pertinent to the Department of Energy's (DOE) efforts to develop a repository for the permanent disposal of spent nuclear fuel and high-level radioactive waste at Yucca Mountain in Nevada. The Board was established by Congress in the Nuclear Waste Policy Amendments Act of 1987 and charged with reviewing the technical and scientific validity of activities undertaken by the Secretary of Energy related to disposal, transportation, and packaging of spent nuclear fuel and high-level radioactive waste.

The meeting will be held at the Renaissance Las Vegas Hotel; 3400 Paradise Road, Las Vegas, Nevada; (tel) (702) 733-6533; (fax) (702) 735-3130. The meeting sessions will begin on both days at 8 a.m. and will continue until approximately 5:30 p.m. on Tuesday and 12:30 p.m. on Wednesday.

Topics that will be discussed at the meeting include corrosion of the repository waste package and drip shield, investigations undertaken in the saturated zone below the proposed repository, and models used to represent how waste will move through the proposed repository's surface facilities. A final meeting agenda will be available on the Board's Web site, http://www.nwtrb.gov, approximately one week before the date of the meeting. The agenda also may be obtained by telephone request at that time.

Time will be set aside at the end of the sessions on both days for public comments. Those wanting to speak are encouraged to sign the “Public Comment Register” at the check-in table. A time limit may have to be set on individual remarks, but written comments of any length may be submitted for the record. Interested parties also may submit questions in writing. As time permits, written questions that are relevant to the discussion may be raised by Board members during the meeting.

Transcripts of the meetings will be available on the Board's Web site, by e-mail, on computer disk, or on library-loan basis in paper format beginning December 5, 2005. For assistance in obtaining meeting transcripts, contact Davonya Barnes, NWTRB staff.

A block of rooms has been set aside at the Renaissance Las Vegas Hotel for meeting participants. When making a reservation, please state that you are attending the Nuclear Waste Technical Review Board meeting. Reservations should be made by October 15, 2005, to ensure receiving the meeting rate.

For more information, contact Karyn Severson, NWTRB External Affairs; 2300 Clarendon Boulevard, Suite 1300; Arlington, VA 22201-3367; (tel) (703) 235-4473; (fax) (703) 235-4495.

Dated: September 30, 2005.
William D. Barnard,
Executive Director, Nuclear Waste Technical Review Board.

[FR Doc. 05-20015 Filed 10-4-05; 8:45 am]

BILLING CODE 6820-AM-M